Proclamation 9950 of October 11, 2019

Blind Americans Equality Day, 2019

By the President of the United States of America

A Proclamation

Blind Americans Equality Day pays tribute to our fellow Americans who are blind or visually impaired for their many contributions to the strength and vitality of our Nation. We renew our steadfast commitment to ensuring their full participation in our communities, workplaces, and social life.

My Administration is committed to promoting policies that foster greater liberty, prosperity, and equality. We are expanding educational, social, technological, and employment opportunities for Americans with disabilities, including blind or visually impaired individuals. We have partnered with States to promote independent living and equal employment opportunities, as well as social, cultural, and athletic activities. Additionally, the President's National Council for the American Worker is developing a national employment strategy to ensure that we have a highly qualified and trained workforce to meet our growing economic needs. We are working to address barriers to employment, combat stigmas, and confront stereotypes that make it more difficult for blind or visually impaired individuals to find and maintain employment. My Administration is also encouraging Federal contractors to take proactive steps to recruit, hire, retain, and advance blind or visually impaired people.

By joint resolution approved on October 6, 1964 (Public Law 88-628), the Congress authorized the President to designate October 15 of each year as “White Cane Safety Day” to recognize the contributions of Americans who are blind or have impaired vision. With the strongest economy our Nation has ever experienced, these Americans are empowered to seek new opportunities for success. Today, and every day, we will continue our efforts to ensure and champion the full and active participation of all Americans, including blind or visually impaired Americans, in every facet of our society.

NOW, THEREFORE, I, DONALD J. TRUMP, President of the United States of America, by virtue of the authority vested in me by the Constitution and the laws of the United States, do hereby proclaim October 15, 2019, as Blind Americans Equality Day, to celebrate and recognize the accomplishments and contributions of Americans who are blind or visually impaired. I call upon all Americans to observe this day with appropriate ceremonies and activities to reaffirm our commitment to achieving equality for all Americans.

IN WITNESS WHEREOF, I have hereunto set my hand this eleventh day of October, in the year of our Lord two thousand nineteen, and of the Independence of the United States of America the two hundred and forty-fourth.

[FR Doc. 2019-22809

Filed 10-16-19; 8:45 am]

Billing code 3295-F0-P